RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s)

(1) Collection title: Medical Reports.

(2) Form(s) submitted: G-3EMP, G-250, G-250a, G-260, RL-11b, RL-11d.

(3) OMB Number: 3220-0038.

(4) Expiration date of current OMB clearance: 10/31/2002.

(5) Type of request: Extension of a currently approved collection.

(6) Respondents: Business or other for-profit, non-profit institutions, State, Local or Tribal government.

(7) Estimated annual number of respondents: 29,950.

(8) Total annual responses: 29,950.

(9) Total annual reporting hours: 12,417.

(10) Collection description: The Railroad Retirement Act provides disability annuities for qualified railroad employees whose physical or mental condition renders them incapable of working in their regular occupation (occupational disability) or any occupation (total disability). The medical reports obtain information needed for determining the nature and severity of the impairment.

Additional Information or Comments: Copies of the forms and supporting documents can be obtained from Chuck Mierzwa, the agency clearance officer (312-751-3363).

Comments regarding the information collection should be addressed to Ronald J. Hodapp, Railroad Retirement Board, 844 North Rush Street, Chicago, Illinois, 60611-2092 and to the OMB Desk Officer for the RRB, at the Office of Management and Budget, Room 10230, New Executive Office Building, Washington, DC 20503.

Chuck Mierzwa,
Clearance Officer.

[FR Doc. 02-23144 Filed 9-11-02; 8:45 am]

BILLING CODE 7905-01-M